FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 010761-001.

Title: Somers Isles Shipping Agreement.

Parties: Bermuda Container Line Limited; Bermuda International Shipping, Ltd.; and Somers Isles Shipping Limited.

Filing Party: Wade S. Hooker, Jr., Esq.; 211 Central Park W; New York, NY 10024.

Synopsis: The agreement updates the parties' joint service agreement covering the Florida/Bermuda trade.

Agreement No.: 011117-038.

Title: United States/Australasia Discussion Agreement.

Parties: A.P. Moller-Maersk A/S and Safmarine Container Lines NV; Australia-New Zealand Direct Line; CMA-CGM, S.A.; Compagnie Maritime Marfret S.A.; CP Ships USA, LLC; FESCO Ocean Management Limited; Hamburg-Süd; and Wallenius Wilhelmsen Logistics AS.

Filing Party: Wayne R. Rohde, Esq.; Sher & Blackwell LLP; 1850 M Street, NW; Suite 900; Washington, DC 20036.

Synopsis: The amendment would add Hapag-Lloyd Container Linie GmbH as a party to the agreement.

Agreement No.: 011794-005.

Title: COSCON/KL/YMUK/Hanjin/Senator Worldwide Slot Allocation & Sailing Agreement.

Parties: COSCO Container Lines Company, Limited; Kawasaki Kisen Kaisha, Ltd.; YangMing (UK) Ltd.; Hanjin Shipping Co., Ltd.; and Senator Lines GmbH.

Filing Party: Robert B. Yoshitomi, Esq.; Nixon Peabody LLP; 2040 Main Street, Suite 850; Irvine, CA 92614.

Synopsis: The amendment increases the number of vessels used under the agreement as well as the total TEU capacities.

Agreement No.: 011959.

Title: Zim/ESL Agreement.

Parties: Zim Integrated Shipping Services, Ltd. and Emirates Shipping Line FZE.

Filing Party: Jeffrey F. Lawrence, Esq.; Sher & Blackwell LLP; 1850 M Street, NW; Suite 900; Washington, DC 20036.

Synopsis: The agreement authorizes the parties to contribute vessels to a service and share space in the trades between ports on the U.S. Gulf Coast, on the one hand, and ports in Jamaica, Panama, Korea, and China, on the other hand. The parties request expedited review.

Agreement No.: 011960.

Title: The New World Alliance Agreement.

Parties: American President Lines, Ltd.; APL Co. Pte, Ltd.; Hyundai Merchant Marine Co., Ltd.; and Mitsui O.S.K. Lines, Ltd.

Filing Party: David B. Cook, Esq.; Goodwin Procter LLP; 901 New York Avenue, NW; Washington, DC 20001.

Synopsis: The agreement authorizes the parties to deploy, schedule and share space on vessel services operating between the U.S. Pacific, Atlantic and Gulf Coasts, on the one hand, and the Far East (including countries bordered by the Indian Ocean and nearby waters), Northern Europe, Panama, countries bordered by the Mediterranean Sea, and the Canadian Pacific Coast, on the other hand. The agreement consolidates and replaces three existing agreements under which The New World Alliance parties currently operate.

Agreement No.: 011961.

Title: The Maritime Credit Agreement.

Parties: Alianca Navegacao e Logistica Ltda. & Cia; A.P. Moller-Maersk A/S; Atlantic Container Line AB; China Shipping Container Lines Co., Ltd.; CMA CGM, S.A.; Companhia Libra de Navegacao; Compania Sudamericana de Vapores, S.A.; COSCO Container Lines Company Limited; Crowley Liner Services, Inc.; Dole Ocean Cargo Express; Hamburg-Süd; Hapag-Lloyd Container Linie GmbH; Hoegh Autoliners A/S; Independent Container Line Ltd.; Montemar Maritima S.A.; Norasia Container Lines Limited; Safmarine Container Lines N.V.; Tropical Shipping & Construction Co., Ltd.; United Arab Shipping Company (S.A.G.); Wallenius Wilhelmsen Logistics AS; and Zim Integrated Shipping Services, Ltd.

Filing Party: Wayne R. Rohde, Esq.; Sher & Blackwell LLP; 1850 M Street, NW; Suite 900; Washington, DC 20036.

Synopsis: The agreement would authorize any two or more parties to meet, discuss, and exchange information with respect to their respective billing and/or collection practices. It expressly precludes the parties from agreeing on credit rules, credit policy, credit terms, rates, or the conditions under which credit will or will not be granted.

By Order of the Federal Maritime Commission.
Dated: May 19, 2006.
Bryant L. VanBrakle,
Secretary.

[FR Doc. E6-7942 Filed 5-23-06; 8:45 am]

BILLING CODE 6730-01-P